DEPARTMENT OF TRANSPORTATION

Federal Highway Administration

Environmental Impact Statement: Salt Lake County, UT

AGENCY: Federal Highway Administration (FHWA), DOT.

ACTION: Notice of Intent.

SUMMARY: The FHWA is issuing this notice to advise the public that an environmental impact statement will be prepared for a proposed highway project in Salt Lake County, Utah.

FOR FURTHER INFORMATION CONTACT: Greg Punske, Project Development Engineer, Federal Highway Administration 2520 West 400 South Suite 9a, Salt Lake City, Utah 84118-1847, Telephone: (801) 963-0182.

SUPPLEMENTARY INFORMATION: The FHWA, in cooperation with the Utah Department of Transportation, the city of West Valley City, Utah, and the Federal Transit Administration (FTA) will prepare an environmental impact statement on a proposal to improve a portion of State Route 171 on 3500 South. The proposed improvement would involve the reconstruction of 3500 South between Redwood Road and 8400 West in West Valley City and Salt Lake County for a distance of 12.9 km (8.0 miles). Most of the proposed project lies within the corporate limits of West Valley City, Utah. The west most portion, from 7200 West for 8400 West, lies in the Magna area, an unincorporated area of Salt Lake County.

Improvements to the corridor are considered necessary to provide for the existing and projected travel demand as indicated in the long range plan developed by the Wasatch Front Regional Council. Alternatives under consideration include (1) taking no action; (2) using alternative travel modes; (3) transportation systems management strategies (TSM); (4) mass transit options, and (5) reconstruction of the existing roadway, including control of access. Also under consideration is the proposed construction of grade separated interchange type facilities located at several heavily used intersections in the project corridor.

Letters describing the proposed action and soliciting comments will be sent to appropriate Federal, State, and local agencies, and to private organizations and citizens who have previously expressed or are known to have an interest in this proposal. A series of public meetings, including scoping meetings, will be held. In addition, a public hearing will be held. Public notice will be given of the time and place of the meetings and hearing. The draft EIS will be available for public and agency review and comment prior to the public hearing.

To ensure the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on March 26, 2002.
William R. Gedris,
Structural Environmental Engineer, Salt Lake City, Utah.

[FR Doc. 02-7761 Filed 3-29-02; 8:45 am]

BILLING CODE 4910-22-M